DEPARTMENT OF ENERGY

Federal Energy Regulatory Commission

[Docket No. ER01-2536-001, et al.]

New York Independent System Operator, Inc., et al.; Electric Rate and Corporate Regulation Filings

October 9, 2001.

Take notice that the following filings have been made with the Commission:

1. New York Independent System Operator, Inc.

[Docket No. ER01-2536-001]

Take notice that on October 4, 2001 the New York Independent System Operator, Inc. (NYISO) filed a compliance filing in the above-captioned proceedings. The NYISO was required to submit this compliance filing pursuant to New York Independent System Operator, Inc., 96 FERC ¶ 61,251 (Sept. 4, 2001).

A copy of this filing was served upon all persons designated on the official service list compiled by the Secretary in Docket No. ER01-2536-000.

Comment date: October 25, 2001, in accordance with Standard Paragraph E at the end of this notice.

2. High Desert Power Project, LLC

[Docket No. ER01-2641-001]

Take notice that on October 3, 2001, High Desert Power Project, LLC submitted for filing a First Substitute Sheet No. 1 to its FERC Electric Tariff, Original Volume No. 1, in compliance with the unpublished delegated letter order issued in this docket on September 18, 2001.

Comment date: October 24, 2001, in accordance with Standard Paragraph E at the end of this notice.

3. Idaho Power Company

[Docket No. ER01-2672-001]

Take notice that on October 4, 2001, Idaho Power Company amended its filing of the Generator Interconnection and Operating Agreement between Idaho Power Company and Emmett Power Company, under its open access transmission tariff in the above-captioned proceeding.

Comment date: October 25, 2001, in accordance with Standard Paragraph E at the end of this notice.

4. Plains End, LLC

[Docket No. ER01-2741-001]

Take notice that on October 4, 2001, Plains End, LLC submitted for filing a First Substitute Sheet No. 1 to its FERC Electric Tariff, Original Volume No. 1, in compliance with the letter order issued in this docket on September 24, 2001.

Comment date: October 25, 2001, in accordance with Standard Paragraph E at the end of this notice.

5. West Valley Generation LLC

[Docket No. ER01-2942-001]

Take notice that on October 3, 2001, West Valley Generation LLC tendered for filing with the Federal Energy Regulatory Commission, (Commission) its First Revised Rate Schedule No. 1. West Valley's rate schedule was revised to reflect the change in name from PPM Six LLC to West Valley Generation LLC and to satisfy the Commission's regulations in 18 CFR 35.9.

Comment date: October 24, 2001, in accordance with Standard Paragraph E at the end of this notice.

6. Jersey Central Power & Light Company, Metropolitan Edison Company, Pennsylvania Electric Company

[Docket No. ER02-15-000]

Take notice that on October 2, 2001, Jersey Central Power & Light Company, Metropolitan Edison Company and Pennsylvania Electric Company (d/b/a GPU Energy), filed an executed Service Agreement between GPU Energy and Calpine Energy Services, L.P. (CES), dated October 1, 2001. This Service Agreement specifies that CES has agreed to the rates, terms and conditions of GPU Energy's Market-Based Sales Tariff (Sales Tariff) designated as FERC Electric Rate Schedule, Second Revised Volume No. 5. The Sales Tariff allows GPU Energy and CES to enter into separately scheduled transactions under which GPU Energy will make available for sale, surplus capacity and/or energy.

GPU Energy requests an effective date of October 1, 2001 for the Service Agreement.

GPU Energy has served copies of the filing on regulatory agencies in New Jersey and Pennsylvania.

Comment date: October 23, 2001, in accordance with Standard Paragraph E at the end of this notice.

7. Jersey Central Power & Light Company, Metropolitan Edison Company, Pennsylvania Electric Company

[Docket No. ER02-16-000]

Take notice that on October 2, 2001, Jersey Central Power & Light Company, Metropolitan Edison Company and Pennsylvania Electric Company (d/b/a GPU Energy), filed an executed Service Agreement between GPU Energy and American Electric Power Service Corporation (AEP), dated September 27, 2001. This Service Agreement specifies that AEP has agreed to the rates, terms and conditions of GPU Energy's Market-Based Sales Tariff (Sales Tariff) designated as FERC Electric Rate Schedule, Second Revised Volume No. 5. The Sales Tariff allows GPU Energy and AEP to enter into separately scheduled transactions under which GPU Energy will make available for sale, surplus capacity and/or energy.

GPU Energy requests an effective date of September 27, 2001 for the Service Agreement.

GPU Energy has served copies of the filing on regulatory agencies in New Jersey and Pennsylvania.

Comment date: October 23, 2001, in accordance with Standard Paragraph E at the end of this notice.

8. PacifiCorp

[Docket No. ER02-17-000]

Take notice that on October 2, 2001, PacifiCorp tendered for filing, in accordance with 18 CFR Part 35 of the Commission's Rules and Regulations, Umbrella Service Agreements with Port of Oakland and PPL Montana, LLC under PacifiCorp's FERC Electric Tariff, Third Revised Volume No. 12 (Tariff).

Copies of this filing were supplied to the Washington Utilities and Transportation Commission and the Public Utility Commission of Oregon.

Comment date: October 23, 2001, in accordance with Standard Paragraph E at the end of this notice.

9. Carolina Power & Light Company

[Docket No. ER02-19-000]

Take notice that on October 2, 2001, Carolina Power & Light Company (CP&L) tendered for filing an executed Service Agreement between CP&L and the following eligible buyer, DTE Energy Trading, Inc. Service to this eligible buyer will be in accordance with the terms and conditions of CP&L's Market-Based Rates Tariff, FERC Electric Tariff No. 5.

CP&L requests an effective date of September 10, 2001 for this Service Agreement.

Copies of the filing were served upon the North Carolina Utilities Commission and the South Carolina Public Service Commission.

Comment date: October 23, 2001, in accordance with Standard Paragraph E at the end of this notice.

10. Southwestern Electric Power Company

[Docket No. ER02-20-000]

Take notice that on October 2, 2001, Southwestern Electric Power Company (SWEPCO) filed a Restated and Amended Power Supply Agreement (Restated Agreement) between SWEPCO and Tex-La Electric Cooperative of Texas, Inc. (Tex-La). The Restated Agreement supersedes in its entirety the Power Supply Agreement, dated November 15, 1990, as amended, between SWEPCO and Tex-La.

SWEPCO seeks an effective date of June 15, 2000 for the Restated Agreement.

Copies of the filing have been served on Tex-La and on the Public Utility Commission of Texas.

Comment date: October 23, 2001, in accordance with Standard Paragraph E at the end of this notice.

11. New England Power Company

[Docket No. ER02-21-000]

Take notice that on October 2, 2001, New England Power Company (NEP) tendered for filing a revised tariff sheet reflecting changes to NEP's Open Access Transmission Tariff, FERC Electric Tariff, Second Revised Volume No. 9 (Tariff No. 9). The revisions are intended to conform Tariff No. 9 to the Restated NEPOOL Agreement as recently amended.

NEP states that copies of the filing have been served upon all of its Tariff No. 9 customers and regulators in the States of Massachusetts, Rhode Island and New Hampshire.

Comment date: October 23, 2001, in accordance with Standard Paragraph E at the end of this notice.

12. Dresden Energy, LLC, S.W.E.C., LLC, Armstrong Energy Limited Partnership, LLLP, Troy Energy, LLC, Pleasants Energy, LLC

[Docket No. ER02-22-000; Docket No. ER02-23-000; Docket No. ER02-24-000; Docket No. ER02-25-000; Docket No. ER02-26-000]

Take notice that on October 2, 2001, Dresden Energy, LLC; S.W.E.C., LLC; Armstrong Energy Limited Partnership, LLLP; Troy Energy, LLC; and Pleasants Energy, LLC (collectively, the Applicants) filed applications for market-based rate authority pursuant to Section 205 of the Federal Power Act. The applications include market-based rate tariffs, forms of umbrella service agreements, codes of conduct (the Tariffs) and market analyses.

Applicants request that their Tariffs become effective on December 1, 2001, sixty days after the date of this filing.

Applicants have served this filing on the Ohio Public Utilities Commission, the Public Service Commission of West Virginia, the Pennsylvania Public Service Commission and the Virginia State Corporation Commission.

Comment date: October 23, 2001, in accordance with Standard Paragraph E at the end of this notice.

13. Mid-Continent Area Power Pool

[Docket No. ER02-27-000]

Take notice that on October 2, 2001, the Mid-Continent Area Power Pool, on behalf of its public utility members, filed a service agreement with ONEOK Power Marketing, Co. under MAPP Schedule R to the Restated Agreement.

Comment date: October 23, 2001, in accordance with Standard Paragraph E at the end of this notice.

14. Mid-Continent Area Power Pool

[Docket No. ER02-28-000]

Take notice that on October 2, 2001, the Mid-Continent Area Power Pool, on behalf of its public utility members, filed long term firm, short-term firm and non-firm transmission service agreements under MAPP Schedule F.

Comment date: October 23, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-25926 Filed 10-15-01; 8:45 am]

BILLING CODE 6717-01-P